NATIONAL SCIENCE FOUNDATION

Notice of Permit Application Received Under the Antarctic Conservation Act of 1978

AGENCY: National Science Foundation.

ACTION: Notice of Permit Applications Received Under the Antarctic Conservation Act.

SUMMARY: Notice is hereby given that the National Science Foundation (NSF) has received a waste management permit application from Mr. Sebastian Copeland for his private expedition crossing Antarctica from the Russian Novo station on the coast to the Pole of Inaccessibility to South Pole and ending at Antarctic Logistics and Expeditions camp at Union Glacier where they will be flown back to Punta Arenas, Chile. The application is submitted to NSF pursuant to regulations issued under the Antarctic Conservation Act of 1978.

DATES: Interested parties are invited to submit written data, comments, or views with respect to this permit application within September 16, 2011. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Dr. Polly A. Penhale, Environmental Officer at the above address or (703) 292-8030.

SUPPLEMENTARY INFORMATION: NSF's Antarctic Waste Regulation, 45 CFR part 671, requires all U.S. citizens and entities to obtain a permit for the use or release of a designated pollutant in Antarctica, and for the release of waste in Antarctica. NSF has received a permit application under this Regulation for a private expedition planning to traverse to the South Pole then onward to Union Glacier where they will be flown to Punta Arenas Chile. While on the traverse, they will be camping in a two-man tent and using white camping fuel for cooking purposes. The fuel will be stored inside the sledges in five-liter containers and metal MSR bottles. Waste generated will consist of a small amount of rinse water from cooking, and human waste for two people. Empty plastic containers and packaging will be kept in the sledges to be discarded in Chile at the end of the expedition.

Application for the permit is made by: Sebastian Copeland, 1626 Ogden Drive, Los Angeles, CA 90046.

Location: Russian Nova Station on the coast to South Pole, then on to Union Glacier for extraction.

Dates: November 2, 2011 to January 27, 2012.
Nadene G. Kennedy,
Permit Officer.

[FR Doc. 2011-20950 Filed 8-16-11; 8:45 am]

BILLING CODE 7555-01-P